DEPARTMENT OF TRANSPORTATION

Federal Motor Carrier Safety Administration

49 CFR Part 371

Brokers of Property

CFR Correction

In Title 49 of the Code of Federal Regulations, Transportation, Parts 300 to 399, revised as of October 1, 2020, on page 78, in section 371.111, the word “paper” is removed from the first sentence.

[FR Doc. 2021-21058 Filed 9-24-21; 8:45 am]

BILLING CODE 0099-10-P